FEDERAL COMMUNICATIONS COMMISSION

47 CFR Part 90

[PS Docket No. 15-199; FCC 16-113]

Amendment of the Commission's Rules To Enable Railroad Police Officers To Access Public Safety Interoperability and Mutual Aid Channels

AGENCY: Federal Communications Commission.

ACTION: Final rule; announcement of effective date.

SUMMARY: In this document, the Commission announces that the Office of Management and Budget (OMB) has approved, for a period of three years, the information collection associated with the Commission's Report and Order (Order)'s rules enabling railroad police access to public safety interoperability channels. This document is consistent with the Order, which stated that the Commission would publish a document in the Federal Register announcing the effective date of those rules.

DATES: The amendments to 47 CFR 90.20(a)(2)(xiv) published at 81 FR 66538, September 28, 2016, are effective July 6, 2017.

FOR FURTHER INFORMATION CONTACT: John A. Evanoff, Policy and Licensing Division, Public Safety and Homeland Security Bureau, at (202) 418-0848, or email: john.evanoff@fcc.gov.

SUPPLEMENTARY INFORMATION: This document announces that, on June 8, 2017, OMB approved, for a period of three years, the information collection requirements relating to the public safety pool eligibility rules contained in the Commission's Order, FCC 16-113, published at 81 FR 66538, September 28, 2016. The OMB Control Number is 3060-1231. The Commission publishes this document as an announcement of the effective date of the rules. If you have any comments on the burden estimates listed below, or how the Commission can improve the collections and reduce any burdens caused thereby, please contact Nicole Ongele, Federal Communications Commission, Room 1-A620, 445 12th Street SW., Washington, DC 20554. Please include the OMB Control Number, 3060-1231, in your correspondence. The Commission will also accept your comments via email at PRA@fcc.gov.

To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the FCC is notifying the public that it received final OMB approval on June 8, 2017, for the information collection requirements contained in the modifications to the Commission's rules in 47 CFR part 90.

Under 5 CFR part 1320, an agency may not conduct or sponsor a collection of information unless it displays a current, valid OMB Control Number.

No person shall be subject to any penalty for failing to comply with a collection of information subject to the Paperwork Reduction Act that does not display a current, valid OMB Control Number. The OMB Control Number is 3060-1231.

The foregoing notice is required by the Paperwork Reduction Act of 1995, Public Law 104-13, October 1, 1995, and 44 U.S.C. 3507.

The total annual reporting burdens and costs for the respondents are as follows:

OMB Control Number: 3060-1231.

OMB Approval Date: June 8, 2017.

OMB Expiration Date: June 30, 2020.

Title: Section 90.20 (xiv), Public Safety Pool.

Form Number: N/A.

Respondents: Business or other for-profit entities, and state, local, or tribal government.

Number of Respondents and Responses: 1,526 respondents; 1,526 responses.

Estimated Time per Response: 1 hour.

Frequency of Response: One-time; on occasion reporting requirement and third party disclosure requirement.

Obligation to Respond: Required to obtain or retain benefits. Statutory authority for these collections are contained in sections 1, 2, 4(i), 4(j), 301, 303, 316, and 337 of the Communications Act of 1934, as amended, 47 U.S.C. 151, 152, 154(i), 154(j), 301, 303, 316, and 337.

Total Annual Burden: 1,526 hours.

Total Annual Cost: None.

Nature and Extent of Confidentiality: There is no need for confidentiality with this collection of information.

Privacy Act: No impact(s).

Needs and Uses: On August, 23, 2016, the Federal Communications Commission released a Report and Order, FCC 16-113, PS Docket No. 15-199 (see attached) that modified part 90 of the Rules Private Land Mobile Radio Services. The amended rule revises the part 90 eligibility rules to permit railroad police officers to access the interoperability. Specifically, the Commission modified § 90.20(a)(2)(xiv) to provide that:

1. Railroad police officers are a class of users eligible to operate on the nationwide interoperability and mutual aid channels listed in § 90.20(i) provided their employer holds a Private Land Mobile Radio (PLMR) license of any radio category, including Industrial/Business (I/B). Eligible users include full and part time railroad police officers, Amtrak employees who qualify as railroad police officers under this subsection, Alaska Railroad employees who qualify as railroad police officers under this subsection, freight railroad employees who qualify as railroad police officers under this subsection, and passenger transit lines police officers who qualify as railroad police officers under this subsection. Railroads and railroad police departments may obtain licenses for the nationwide interoperability and mutual aid channels on behalf of railroad police officers in their employ. Employers of railroad police officers must obtain concurrence from the relevant state interoperability coordinator or regional planning committee before applying for a license to the Federal Communications Commission or operating on the interoperability and mutual aid channels.

• Railroad police officer means a peace officer who is commissioned in his or her state of legal residence or state of primary employment and employed, full or part time, by a railroad to enforce state laws for the protection of railroad property, personnel, passengers, and/or cargo.

• Commissioned means that a state official has certified or otherwise designated a railroad employee as qualified under the licensing requirements of that state to act as a railroad police officer in that state.

• Property means rights-of-way, easements, appurtenant property, equipment, cargo, facilities, and buildings and other structures owned, leased, operated, maintained, or transported by a railroad.

• Railroad means each class of freight railroad (i.e., Class I, II, III); Amtrak, Alaska Railroad, commuter railroads and passenger transit lines.

• The word state, as used herein, encompasses states, territories and the District of Columbia.

2. Eligibility for licensing on the 700 MHz narrowband interoperability channels is restricted to entities that have as their sole or principal purpose the provision of public safety services.

To effectively implement the provisions of the new Rule, no other modifications to existing FCC rules are required. The changes are intended to simplify the licensing process for railroad police officers and ensure interoperable communications. The modified rules provide a benefit to public safety licensees by ensuring that only railroad police officers with appropriate governmental authorization can operate on the interoperability and mutual aid channels during emergencies. This will provide the additional benefit of promoting interoperability with railroad police officers by eliminating eligibility as a gating factor when licensing spectrum. The Report and Order reduces the burden on railroad police by allowing them to meet eligibility standard by requiring employers of railroad police officers to obtain concurrence from the relevant state interoperability coordinator or regional planning committee before applying for a license to the Federal Communications Commission or operating on the interoperability and mutual aid channels. Compliance with this requirement is already a requisite for public safety eligibility to use the interoperability and mutual aid channels, consequently any new burden imposed by this requirement would be minimal.

Federal Communications Commission.
Marlene H. Dortch,
Secretary, Office of the Secretary.

[FR Doc. 2017-14163 Filed 7-5-17; 8:45 am]

BILLING CODE 6712-01-P